POSTAL SERVICE

Product Change—Every Door Direct Mail—Retail

AGENCY: Postal Service™.

ACTION: Notice.

SUMMARY: The Postal Service hereby provides notice of filing of a request with the Postal Regulatory Commission to add Every Door Direct Mail—Retail to the market-dominant product list within the Mail Classification Schedule.

DATES: Effective Date: July 17, 2012.

FOR FURTHER INFORMATION CONTACT: David Rubin, 202-268-2986.

SUPPLEMENTARY INFORMATION: The United States Postal Service® hereby gives notice that on July 10, 2012, it filed with the Postal Regulatory Commission a Request of the United States Postal Service to Add Every Door Direct Mail—Retail to the Mail Classification Schedule, pursuant to 39 U.S.C. 3642. Documents are available at www.prc.gov, Docket No. MC2012-31.

Stanley F. Mires,
Attorney, Legal Policy & Legislative Advice.

[FR Doc. 2012-17300 Filed 7-16-12; 8:45 am]

BILLING CODE 7710-12-P